DEPARTMENT OF AGRICULTURE

Farm Service Agency

7 CFR Part 782

Suspension of End-Use Certificate Program Requirements

AGENCY: Farm Service Agency, USDA.

ACTION: Final rule.

SUMMARY: This final rule suspends indefinitely the Farm Service Agency (FSA) regulation requiring end-use certificates and tracking of wheat produced in Canada that enters the United States. This action is being taken in response to the discontinuation of Canada's end-use certificate program. As a result of these changes, importers and end-users of Canadian produced wheat are no longer required to provide FSA end-use certificates or consumption and resale reports on wheat produced in Canada.

DATES: Effective August 31, 2012.

FOR FURTHER INFORMATION CONTACT: Helen Linden, Farm Service Agency, Commodity Operations Division, telephone (202) 690-4321, or email Helen.linden@wdc.usda.gov.

SUPPLEMENTARY INFORMATION: Section 321(f) of the North American Free Trade Agreement (NAFTA) Implementation Act requires the Secretary of Agriculture to:

(1) Establish end-use certificates for imports of wheat and barley from a foreign country that requires end-use certificates for imports of U.S. produced wheat or barley; and

(2) Suspend end-use certificate requirements if the foreign countries that have similar requirements terminate such requirements. Canada was the only country requiring end-use certificates, and wheat was the only commodity subject to end-use certificate requirements.

FSA regulations regarding the U.S. end-use certificate program were implemented in 7 CFR part 782, End Use Certificate Program. These regulations provide, in part, that the provisions of the regulations will be suspended 30 calendar days following the date Canada eliminates its end-use certificate requirement.

Canada announced that effective August 1, 2012, it will no longer require end-use certificates on U.S. produced wheat entering Canada. Therefore, by the statutory and regulatory authorities mentioned above, effective August 31, 2012, FSA is suspending the End-Use Certificate filing requirements in 7 CFR part 782. Accordingly, beginning August 31, 2012, importers and end-users of Canadian wheat will no longer be required to file either the End-Use Certificate for Wheat (FSA-750) or the End-Use Certificate Program Canadian Wheat Consumption and Resale Report (FSA-751).

List of Subjects in 7 CFR Part 782

Administrative practice and procedure, Barley, Reporting and recordkeeping requirements, Wheat.

PART 782—[SUSPENDED]

Accordingly, under the authority of 7 U.S.C. 6932, 15 U.S.C. 714b and 714c and 19 U.S.C. 3391, the Farm Security administration suspends indefinitely 7 CFR part 782.

Signed on August 3, 2012.
Juan M. Garcia,
Administrator, Farm Service Agency.

[FR Doc. 2012-20983 Filed 8-23-12; 8:45 am]

BILLING CODE 3410-05-P